DEPARTMENT OF HEALTH AND HUMAN SERVICES

National Institutes of Health

Office of The Director, National Institutes of Health; Amended Notice of Meeting

Notice is hereby given of a change in the meeting of the Council of Councils, November 16, 2009, 9 a.m. to November 17, 2009, 12 p.m., National Institutes of Health, Building 31C, 31 Center Drive, Conference Room 6, Bethesda, MD, 20892 which was published in the Federal Register on October 8, 2009, 74 FR 51869.

This meeting will be held on November 16, 2009 for one day only. The meeting is open to the public.

Dated: November 05, 2009.
Jennifer Spaeth,
Director, Office of Federal Advisory Committee Policy.

[FR Doc. E9-27173 Filed 11-12-09; 8:45 am]

BILLING CODE 4140-01-M